DEPARTMENT OF LABOR

Employment and Training Administration

[TA-W-65,277]

Carrollton Specialty Products Company, Moberly, MO; Notice of Termination of Investigation

In accordance with Section 221 of the Trade Act of 1974, as amended, an investigation was initiated on February 17, 2009 in response to a worker petition filed on behalf of workers of Carrollton Specialty Products Company, Moberly, Missouri.

The petitioners have requested that the petition be withdrawn. Consequently, the investigation has been terminated.

Signed in Washington, DC, this 30th day of March 2009.
Richard Church,
Certifying Officer, Division of Trade Adjustment Assistance.

[FR Doc. E9-10217 Filed 5-4-09; 8:45 am]

BILLING CODE 4510-FN-P